COMMODITY FUTURES TRADING COMMISSION

Sunshine Act Meetings

TIME AND DATE: 8:00 a.m. EDT, Friday, March 24, 2023.

PLACE: Virtual meeting.

STATUS: Closed.

MATTERS TO BE CONSIDERED: Matters relating to the Commission's retention of outside counsel. In the event that the time, date, or location of this meeting changes, an announcement of the change, along with the new time, date, and/or place of the meeting will be posted on the Commission's website at https://www.cftc.gov/.

CONTACT PERSON FOR MORE INFORMATION: Christopher Kirkpatrick, 202-418-5964.

Authority: 5 U.S.C. 552b.

Dated: March 23, 2023.
Christopher Kirkpatrick,
Secretary of the Commission.

[FR Doc. 2023-06453 Filed 3-24-23; 11:15 am]

BILLING CODE 6351-01-P